DEPARTMENT OF LABOR

Employment and Training Administration

[TA-W-40,926]

EVTAC Mining LLC, Formerly Thunderbird Mining, Eveleth, Minnesota; Notice of Negative Determination Regarding Application for Reconsideration

By application dated April 12, 2002, the United Steel Workers of America, Local 6860 requested administrative reconsideration of the Department's negative determination regarding eligibility to apply for Trade Adjustment Assistance (TAA), applicable to workers and former workers of the subject firm. The denial notice was signed on March 13, 2002, and published in the Federal Register on March 29, 2002 (67 FR 15225).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petition for the workers of EVTAC Mining LLC, formerly Thunderbird Mining, Eveleth, Minnesota was denied because criterion (2) of the group eligibility requirement of Section 222 of the Trade Act of 1974, as amended, was not met. Sales and production at the subject firm increased during the relevant period.

The petitioner alleges that sales and production would have shown a decline in the 2001 period if it were not for a fire at the subject firm that disrupted production at the subject plant during year 2000. The petitioner further implies that reduced production at the subject firm in 2000 appears to create an incorrect upward trend in sales and production at the subject plant in 2001.

Based on data supplied by the petitioner and the initial investigation, sales and production increased in 2001 over the 2000 period. The petitioner supplied a company memo with their request for administrative reconsideration showing what estimated plant production would have been if there were no fire at the subject plant in the year 2000. Based on the information supplied, no declines in sales or production occurred during the relevant period of the investigation.

Conclusion

After review of the application and investigative findings, I conclude that there has been no error or misinterpretation of the law or of the facts which would justify reconsideration of the Department of Labor's prior decision. Accordingly, the application is denied.

Signed at Washington, DC, this 14th day of May, 2002.
Edward A. Tomchick,
Director, Division of Trade Adjustment Assistance.

[FR Doc. 02-13938 Filed 6-3-02; 8:45 am]

BILLING CODE 4510-30-P